GENERAL SERVICES ADMINISTRATION

Privacy Act of 1974; Proposed Privacy Act System of Records

AGENCY: General Services Administration

ACTION: Notice of a system of records subject to the Privacy Act of 1974

SUMMARY: The General Services Administration (GSA) is providing notice of the designation of the FedBizOpps (FBO) (GSA/OAP-4) system as a system of records under the Privacy Act. The purpose of FedBizOpps is to collect, maintain, and disseminate information on Federal procurement solicitations to the public. The system also collects voluntary contact information (e-mail address) on individuals and company information on vendors who use FedBizOpps to find and respond to Federal business opportunities for their products and/or services. System information is used to administer and manage Federal buyer access, maintain interested vendor lists, and keep vendors informed of Federal solicitations of business interest.

DATES: This notice for the FedBizOpps (FBO) system will become effective on August 9, 2006 unless comments received on or before that date result in a contrary determination.

ADDRESSES: Comments should be directed to Stuart Dvorkin, FBO Program Manager, FedBizOpps Program Office, General Services Administration, Federal Supply Service (GSA/FIB), Crystal Mall Four, Room 804 (CM4-804), 1901 South Bell Street, Arlington VA 22202-4502.

FOR FURTHER INFORMATION CONTACT: GSA Privacy Act Officer (CIB), General Services Administration, 1800 F Street NW, Washington DC 20405; telephone (202) 501-1452.

Dated: June 20, 2006.
JUNE V. HUBER
Director, Office of Information Management

GSA/ OAP-4

System name:

FedBizOpps (FBO)

System location:

Records are maintained in electronic form in the GSA Federal Supply Service (FSS) FedBizOpps production facilities, hosted by a contractor in Sterling VA and Chicago IL. Contact the system manager for additional information.

Categories of individuals covered by the system:

a. Interested individuals. Individuals who request information from the FedBizOpps system. The contact is voluntary. The individual’s e-mail address is used to respond to requests and inquiries.

b. Interested vendors. Contact information provided by vendors and/or individuals who are sole proprietors. Vendors may voluntarily establish a Vendor Notification Profile in FedBizOpps, within the secure production portion of the system. The vendor is notified by the system when selected FedBizOpps postings occur that are of interest to that vendor based on the profile.

Categories of Records in the System:

The system maintains an inventory of Federal solicitations and related documents, and vendor contact information. System information includes:

a. Organizational, contact, and access control information on Federal contracting officials authorized to access and use the FedBizOpps system services for the management, administration, and posting of Federal solicitation information and related documents.

b. Contact information in the form of an e-mail address, provided voluntarily by vendors and other individuals who wish to use FedBizOpps to be kept informed of Federal procurements and/or specific solicitations of interest. Vendors also may choose to be included on the Interested Vendors Listing (IVL) to further eCommerce opportunities. A vendor may provide any or all of the data in the Interested Vendor Listing, which consists of Company Name, Address, Phone Number(s), E-mail address(es), Name of Point of Contact, and Business Type.

Authorities for maintenance of the system: 15 U.S.C. 637 and 41 U.S.C. 416.

Purpose:

To establish and maintain a system for posting, finding, and retrieving Federal solicitation information for procurements valued over $25,000; and to disseminate Federal solicitations to interested public individuals and businesses.

Routine uses of the system records, including categories of users and their purpose for using the system:

System information may be accessed and used by authorized Federal contracting officials to post Federal solicitation information and related documents in the conduct of official Federal business or by Federal contractors, vendors, and/or interested individuals to search, monitor, find, and/or respond to Federal solicitations of interest.

Information from this system also may be disclosed as a routine use:

a. In any legal proceeding, where pertinent, to which GSA is a party before a court or administrative body.

b. To a Federal, State, local, or foreign agency responsible for investigating, prosecuting, enforcing, or carrying out a statute, rule, regulation, or order when GSA becomes aware of a violation or potential violation of civil or criminal law or regulation.

c. To duly authorized officials engaged in investigating or settling a grievance, complaint, or appeal filed by an individual who is the subject of the record.

d. To the Office of Personnel Management (OPM) and the Government Accountability Office (GAO) when the information is required for evaluation of the program.

e. To a Member of Congress or his or her staff on behalf of and at the request of the individual who is the subject of the record.

f. To an expert, consultant, or contractor of GSA in the performance of a Federal duty to which the information is relevant.

g. To the National Archives and Records Administration (NARA) for records management purposes.

Policies and practices for storing, retrieving, accessing, retaining, and disposing of system records:

Storage:

Information is collected electronically and is stored on readily accessible hard drives, backed up to tape media.

Retrievability:

Federal government electronic solicitation records and related documents are readily retrievable by the general public using the search and retrieval and/or drill-down select and retrieval capabilities of FedBizOpps. The Federal buyer and interested individual (vendor) contact information described in the Categories of Records in the System paragraph is accessible only to authorized Federal officials and to the FedBizOpps system services that use the information for its intended purposes.

Safeguards:

System records are safeguarded in accordance with the requirements of the Privacy Act, the Computer Security Act, and the FedBizOpps System Security Plan. Technical, administrative, and personnel security measures are implemented to ensure confidentiality and integrity of the system data that is stored, processed, and transmitted, including password protection and other appropriate security measures.

Retention and disposal:

Disposition of records is according to the National Archives and Records Administration (NARA) guidelines, as set forth in the GSA Records Maintenance and Disposition System handbooks OAD P 1820.2A and CIO P 1820.1, and authorized GSA records schedules.

System manager and address:

FBO Program Manager, FedBizOpps Program Office, General Services Administration, Federal Supply Service (GSA/FIB), Crystal Mall Four, Room 804 (CM4-804), 1901 South Bell Street, Arlington VA 22202-4502.

Notification procedure:

An individual may obtain information on whether the system contains his or her record by addressing a request to the FedBizOpps (FBO) Program Manager at the above address.

Record access procedures:

Requests from individuals for access to their records should be addressed to the FedBizOpps (FBO) Program Manager at the above address.

Contesting record procedures:

GSA rules for access to systems of records, for contesting the contents of systems of records, and for appealing initial determinations are published in the Federal Register, 41 CFR part 105-64.

Record source categories:

Information is obtained from individuals who are Federal contracting officials authorized to use the FedBizOpps system for official Federal business or who are individuals voluntarily providing contact information using FedBizOpps vendor services in order to be notified of solicitations of interest.

[FR Doc. 06-5902 Filed 6-29-06; 8:45 am]

BILLING CODE 6820-34-S